DEPARTMENT OF JUSTICE

Notice of Lodging of Proposed Consent Decree Under the Clean Water Act

On October 8, 2015, the Department of Justice lodged a proposed consent decree with the United States District Court for the Northern District of Illinois in the lawsuit entitled United States of America and the State of Illinois v. The City of Rockford, Illinois, Civil Action No. 3:15cv50250.

The United States and the State of Illinois filed this lawsuit under the Clean Water Act and the Illinois Environmental Protection Act. The Plaintiffs' complaint seeks injunctive relief and civil penalties for Rockford's violations of the terms and conditions of its National Pollutant Discharge Elimination System permit for stormwater discharges from its municipal separate storm sewer system. The consent decree requires the defendant to perform injunctive relief and pay a $329,395.00 civil penalty.

The publication of this notice opens a period for public comment on the consent decree. Comments should be addressed to the Assistant Attorney General, Environment and Natural Resources Division, and should refer to United States of America and the State of Illinois v. The City of Rockford, Illinois, D.J. Ref. No. 90-5-1-1-09632. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611

During the public comment period, the consent decree may be examined and downloaded at this Justice Department Web site: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $118.50 (25 cents per page reproduction cost) payable to the United States Treasury. For a paper copy without the exhibits, the cost is $11.00.

Randall M. Stone,
Acting Assistant Section Chief, Environmental Enforcement Section, Environment and Natural Resources Division.

[FR Doc. 2015-26175 Filed 10-14-15; 8:45 am]

BILLING CODE 4410-15-P